SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 22, 2010.

ADDRESSES: Send all comments regarding whether this information collection is necessary for the proper performance of the function of the agency, whether the burden estimates are accurate, and if there are ways to minimize the estimated burden and enhance the quality of the collection, to Jihoon Kim, Financial Analyst, Office of Financial Assistance, Small Business Administration, 409 3rd Street, 8th Floor, Washington, DC 20416.

FOR FURTHER INFORMATION CONTACT: Jihoon Kim, Financial Analyst, Office of Financial Assistance, 202-205-6024, Jihoon.kim@sba.gov or Curtis B. Rich, Management Analyst, 202-205-7030 curtis.rich@sba.gov.

SUPPLEMENTARY INFORMATION: This information collection captures the terms and conditions of the Small Business Administration's (SBA) new Secondary Market for Section 504 First Mortgage Loan Pool Program. SBA needs this information collection in order to identify program participants, terms of financial transactions involving federal government guaranties, and reporting on program efficiency.

Title: “Secondary Market for Section 504 First Mortgage Loan Pool Program”.

Description of Respondents: Secondary Market Participants.

Form Numbers: 2401, 2402, 2403, 2404.

Annual Responses: 12,490.

Annual Burden: 33,075.

Jacqueline White,
Chief, Administrative Information Branch.

[FR Doc. 2010-9526 Filed 4-22-10; 8:45 am]

BILLING CODE 8025-01-P